Title 3—

The President

Proclamation 8760 of November 30, 2011

Critical Infrastructure Protection Month, 2011

By the President of the United States of America

A Proclamation

From irrigation to the Internet, our Nation’s critical infrastructure supports an incredible array of services and industries that are essential to our continued success and prosperity. Critical infrastructure includes all systems and assets, both physical and virtual, that make vital contributions to our security, economic stability, public health, or safety. This month, we affirm the fundamental importance of our critical infrastructure and recommit to preparing for, responding to, and recovering from hazardous events and emergencies efficiently and effectively.

My Administration is resolute in our dedication to a safe, secure future for our Nation. Natural disasters, pandemic diseases, and acts of terrorism can pose serious risks to our critical infrastructure, and it is imperative we are prepared in the event of an emergency. To reduce risks and improve our national preparedness, we are fortifying our partnerships with State, local, territorial, and tribal governments to close gaps in our protection programs and promote collaboration at all levels of government. We are also engaging a wide variety of private stakeholders, including critical infrastructure owners and operators, to expand and reinforce critical infrastructure protection. And, with the If You See Something, Say Something campaign, we are empowering individuals and communities across America to help improve public safety. All of us have a role to play in strengthening our national security, and together, we are taking steps to foster a culture of resilience.

As we navigate new and uncertain challenges in the digital age, we must also address the growing threat cyber attacks present to our transportation networks, electricity grid, financial systems, and other assets and infrastructure. Cybersecurity remains a priority for my Administration, and we are committed to protecting our critical infrastructure by taking decisive action against cyber threats. To ensure the safety of our most vital operations, we are working to give public and private organizations the ability to obtain cybersecurity assistance quickly and effectively. These efforts will bolster our ability to withstand any attack, whether virtual or physical.

During Critical Infrastructure Protection Month, we reflect on our responsibility to protect the vital systems and assets that sustain our country and our people. Strengthening our national security and resilience is a task for all of us, and by promoting awareness and partnering with one another, we can make essential progress toward safe, secure, and prosperous horizons for every American.

NOW, THEREFORE, I, BARACK OBAMA, President of the United States of America, by virtue of the authority vested in me by the Constitution and the laws of the United States, do hereby proclaim December 2011 as Critical Infrastructure Protection Month. I call upon the people of the United States to recognize the importance of protecting our Nation’s critical resources and to observe this month with appropriate events and training to enhance our national security and resilience.

IN WITNESS WHEREOF, I have hereunto set my hand this thirtieth day of November, in the year of our Lord two thousand eleven, and of the Independence of the United States of America the two hundred and thirty-sixth.

[FR Doc. 2011-31412

Filed 12-5-11; 8:45 am]

Billing code 3295-F2-P